DEPARTMENT OF TRANSPORTATION

Federal Aviation Administration

14 CFR Part 71

[Docket No. FAA-2015-2905; Airspace Docket No. 15-AWA-3]

RIN 2120-AA66

Amendment of Class C Airspace; Portland International Airport, OR

AGENCY: Federal Aviation Administration (FAA), DOT.

ACTION: Final rule, technical amendment.

SUMMARY: This action amends geographic coordinates of Portland International Airport, Portland, OR, under Class C airspace, due to recent surveys of the airport. This action also updates the name and geographic coordinates of satellite airports referenced in the Portland description. This action does not change the boundaries or operating requirements of the airspace.

DATES: Effective date 0901 UTC, December 10, 2015. The Director of the Federal Register approves this incorporation by reference action under title 1, Code of Federal Regulations, part 51, subject to the annual revision of FAA Order 7400.9 and publication of conforming amendments.

ADDRESSES: FAA Order 7400.9Z, Airspace Designations and Reporting Points and subsequent amendments can be viewed online at http://www.faa.gov/airtraffic/publications/. For further information, you can contact the Airspace Policy and Regulations Group, Federal Aviation Administration, 800 Independence Avenue SW., Washington, DC 20591; telephone: (202) 267-8783.

The order is also available for inspection at the National Archives and Records Administration (NARA). For information on the availability of this material at NARA, call (202) 741-6030, or go to http://www.archives.gov/federal_register/code_of_federal_regulations/ibr_locations.html.

FAA Order 7400.9, Airspace Designations and Reporting Points, is published yearly and effective on September 15.

FOR FURTHER INFORMATION CONTACT: Jason Stahl, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it updates the geographic coordinates of Portland International Airport, Portland, OR.

History

During a review of the airspace for Portland International Airport, Portland, OR, the FAA identified that the airport's geographic coordinates were incorrect. This action updates the geographic coordinates to coincide with the FAA's aeronautical database for the respective Class C airspace area. Additionally, this action updates the names and geographic coordinates of referenced airports within the Portland International Airport's Class C airspace description.

Class C airspace designations are published in paragraph 4000 of FAA Order 7400.9Z dated August 6, 2015, and effective September 15, 2015, which is incorporated by reference in 14 CFR 71.1. The Class C airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this final rule. FAA Order 7400.9Z lists Class A, B, C, D, and E airspace areas, air traffic service routes, and reporting points.

The Rule

This amendment to Title 14, Code of Federal Regulations (14 CFR) part 71 amends Class C airspace at Portland International Airport, Portland, OR, by adjusting the geographic coordinates to reflect recent survey data. This rule also adjusts the Evergreen North-South Airpark, Vancouver, WA, formerly Evergreen Airport, and Pearson Field, Vancouver, WA, formerly Pearson Airpark.

This is an administrative change and does not affect the boundaries, altitudes, or operating requirements of the airspace, therefore, notice and public procedure under 5 U.S.C. 553(b) is unnecessary.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, effective September 15, 2015, is amended as follows:

Paragraph 4000 Class C Airspace

* * * * *

ANM OR C Portland International Airport, OR [Amended]

Portland International Airport, OR

(Lat. 45°35′19″ N., long. 122°35′49″ W.)

Evergreen North-South Airpark

(Lat. 45°37′33″ N., long. 122°31′52″ W.)

Pearson Field

(Lat. 45°37′14″ N., long. 122°39′23″ W.)

That airspace extending upward from the surface to and including 4,000 feet MSL within a 5-mile radius of Portland International Airport, excluding that airspace within a 1-mile radius of Evergreen North-South Airpark and that airspace from the 003° bearing from Evergreen North-South Airpark clockwise to the 105° bearing from Evergreen North-South Airpark, and excluding that airspace up to but not including 1,100 feet MSL in an area bounded by a line beginning at the point where the 019° bearing from Pearson Field intersects the 5-mile arc from Portland International Airport extending southeast to a point 1½ miles east of Pearson Field on the extended centerline of Runway 8/26 and thence south to the north shore of the Columbia River and thence west via the north shore of the Columbia River to the 5-mile arc from Portland International; and excluding that airspace west of the east bank of the Willamette River; and that airspace extending upward from 2,000 feet MSL to and including 4,000 feet MSL within a 10-mile radius of Portland International Airport from the 004° bearing from the airport clockwise to the 093° bearing from the airport, and that airspace extending upward from 1,700 feet MSL to and including 4,000 feet MSL within a 10-mile radius of the airport from the 093° bearing from the airport clockwise to the 196° bearing from the airport, and that airspace extending upward from 2,300 feet MSL to and including 4,000 feet MSL from the 196° bearing from the airport clockwise to the 268° bearing from the airport, and that airspace extending upward from 1,800 feet MSL to and including 4,000 feet MSL within a 10-mile radius of the airport from the 268° bearing from the airport clockwise to the 004° bearing from the airport.

Issued in Washington, DC, on September 15, 2015.
Gary A. Norek,
Manager, Airspace Policy and Regulations Group.

[FR Doc. 2015-23997 Filed 9-23-15; 8:45 am]

BILLING CODE 4910-13-P